SECURITIES AND EXCHANGE COMMISSION

[File No. 500-1]

In the Matter of Pretory USA, Inc. (n/k/a Sunrise Petroleum Resources, Inc.); Order of Suspension of Trading

October 5, 2006.

It appears to the Securities and Exchange Commission that there is a lack of current and accurate information concerning the securities of Pretory USA, Inc. (n/k/a Sunrise Petroleum Resources, Inc.) because it has not filed any periodic reports since it filed an amended Form 10-SB on February 18, 2000.

The Commission is of the opinion that the public interest and the protection of investors require a suspension of trading in the securities of the above-listed company.

Therefore, it is ordered, pursuant to section 12(k) of the Securities Exchange Act of 1934, that trading in the above-listed company is suspended for the period from 9:30 a.m. EDT on October 5, 2006, through 11:59 p.m. EDT on October 18, 2006.

By the Commission.
Jill M. Peterson,
Assistant Secretary.

[FR Doc. 06-8597 Filed 10-5-06; 11:50 am]

BILLING CODE 8011-01-P